DEPARTMENT OF HEALTH AND HUMAN SERVICES

Centers for Medicare & Medicaid Services

Privacy Act of 1974, CMS Computer Match No. 2013-03, HHS Computer Match No. 1314, SSA Computer Match No. 1048, IRS Project No. 241

AGENCY: Department of Health and Human Services (HHS), Centers for Medicare & Medicaid Services (CMS).

ACTION: Notice of Computer Matching Program (CMP).

SUMMARY: In accordance with the requirements of the Privacy Act of 1974, as amended, this notice announces the establishment of a Computer Matching Program that CMS plans to conduct with the Social Security Administration (SSA) and the Internal Revenue Service (IRS), a Bureau of the Department of Treasury.

Effective Dates: Comments are invited on all portions of this notice. Public comments are due 30 days after publication. The matching program will become effective no sooner than 40 days after the report of the matching program is sent to the Office of Management and Budget (OMB) and Congress, or 30 days after publication in the Federal Register, whichever is later.

ADDRESSES: The public should send comments to: CMS Privacy Officer, Division of Privacy Policy, Privacy Policy and Compliance Group, Office of E-Health Standards & Services, Offices of Enterprise Management, CMS, Room S2-24-25, 7500 Security Boulevard, Baltimore, Maryland 21244-1850. Comments received will be available for review at this location, by appointment, during regular business hours, Monday through Friday from 9:00 a.m.-3:00 p.m., Eastern Time zone.

FOR FURTHER INFORMATION CONTACT: Richard Mazur, Technical Advisor, Office of Financial Management, Financial Services Group, Division of Medicare Secondary Payer Program Operations, CMS, Mail Stop C3-14-16, 7500 Security Boulevard, Baltimore, Maryland 21244-1850, Office Phone: (410) 786-1418, Facsimile: (410) 786-7030, E-Mail: Richard.Mazur2@cms.hhs.gov.

SUPPLEMENTARY INFORMATION: The Computer Matching and Privacy Protection Act of 1988 (Pub. L. 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records (SOR) are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

This matching program meets the requirements of the Privacy Act of 1974, as amended.

Dated: January 17, 2014.
Timothy Love,
Chief Operating Officer, Centers for Medicare & Medicaid Services.

CMS Computer Match No. 2013-03

HHS Computer Match No. 1314

SSA Computer Match No. 1048

IRS Project No. 241

NAME

“Computer Matching Agreement between the Department of the Treasury, Internal Revenue Services, and the Social Security Administration and the Department of Health and Human Services, Centers for Medicare & Medicaid Services for the Medicare Secondary Payer Program”

SECURITY CLASSIFICATION

Unclassified

PARTICIPATING AGENCIES

Department of Treasury, Internal Revenue Service (IRS); Social Security Administration (SSA); and the Department of Health and Human Services (HHS), Centers for Medicare & Medicaid Services (CMS).

AUTHORITY FOR CONDUCTING MATCHING PROGRAM

Section 6103(l)(12) of the Internal Revenue Code (IRC) (26 U.S.C. 6103(1)(12)), and section 1862(b)(5) of the Social Security Act (42 U.S.C. 1395y(b)(5)) implements the information matching provisions of the matching program.

Section 1106 of the Social Security Act (42 U.S.C. 1306) permits the disclosure of SSA data under this matching program.

PURPOSE(S) OF THE MATCHING PROGRAM

The purpose of this matching program is to establish the conditions under which: (1) IRS agrees to disclose return information relating to taxpayer identity to SSA, and (2) SSA agrees to disclose return information relating to beneficiary and employer identity, commingled with information disclosed by the IRS, to CMS.

These disclosures will provide CMS with information to determine the extent to which any Medicare beneficiary is covered under any Group Health Plan (GHP).

DESCRIPTION OF RECORDS TO BE USED IN THE MATCHING PROGRAM

The matching program will be conducted with data maintained by CMS in the following SORs:

• Medicare Advantage Prescription Drug (MARx) System, CMS System No. 09-70-0588, published at 76 FR 47190 (August 4, 2011);

• Medicare Multi-Carrier Claims System (MCS), CMS System No. 09-70-0501, published at 71 FR 64968 (November 6, 2006);

• Fiscal Intermediary Shared System (FISS), CMS System No. 09-70-0503, published at 71 FR 64961 (November 6, 2006);

• Common Working File (CWF), CMS System No. 09-70-0526, published at 71 FR 64955 (November 6, 2006);

• National Claims History (NCH), CMS System No. 09-70-0558, published at 71 FR 67137 (November 20, 2006).

The matching program will also be conducted with data maintained by IRS in CADE (Customer Account Data Engine) Individual Master File (IMF), Treasury/IRS 24.030, published at 77 FR 47946-947 (August 10, 2012); and SSA in Master Beneficiary Record (MBR), SSA/ORSIS 60-0090, published at 71 FR 1826 (January 11, 2006) and Earnings Recording and Self-Employment Income System, SSA 60-0059, referred to as the Master Earnings File (MEF), published at 71 FR 1819 (January 11, 2006).

INCLUSIVE DATES OF THE MATCH

This Computer Matching Program will become effective no sooner than 40 days after the report of the matching program is sent to OMB and Congress, or 30 days after publication in the Federal Register, whichever is later. The matching program will continue for 18 months from the effective date and may be extended for an additional 12 months thereafter, if certain conditions are met.

[FR Doc. 2014-01566 Filed 1-27-14; 8:45 am]

BILLING CODE 4120-03-P